DEPARTMENT OF THE INTERIOR

Bureau of Land Management

[20X.LLWO200000. L11700000.PH0000.LXSGPL000000]

Notice of Availability of the Idaho Draft Supplemental Environmental Impact Statement for Greater Sage-Grouse Conservation

AGENCY: Bureau of Land Management, Interior.

ACTION: Notice of availability.

SUMMARY: In accordance with the National Environmental Policy Act of 1969, as amended, the Bureau of Land Management (BLM) has prepared this Draft Supplemental Environmental Impact Statement (EIS), and by this notice is announcing the opening of the comment period. BLM Idaho is soliciting comments on the Draft Supplemental EIS.

DATES: To ensure that comments will be considered, the BLM must receive written comments on the Draft SEIS within 45 days following the date the Environmental Protection Agency publishes a Notice of Availability of the Draft Supplemental EIS in the Federal Register. The BLM will announce future meetings or hearings and any other public participation activities at least 15 days in advance through public notices, media releases, and/or mailings.

ADDRESSES: You may submit comments related to the Idaho Draft Supplemental EIS by any of the following methods:

• Website: https://goo.gl/Jd8uVf.

• Mail: BLM Idaho State Office, 1387 S. Vinnell Way, Boise ID 83709

• Fax: (208) 373-3805

Copies of the Idaho Draft Supplemental EIS for Greater Sage-Grouse Conservation are available in the BLM Idaho State Office at the above address or online at https://goo.gl/Jd8uVf.

FOR FURTHER INFORMATION CONTACT: Jonathan Beck, Greater Sage-Grouse Implementation Coordinator, telephone (208) 373-3841; address 1387 S. Vinnell Way, Boise ID 83709; email jmbeck@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Greater Sage-Grouse is a State-managed species that is dependent on sagebrush steppe ecosystems. These ecosystems are managed in partnership across the range of the Greater Sage-Grouse by State wildlife agencies, Federal agencies, local communities, private landowners, and other stakeholders. Since the 1950s these partners have collaborated to conserve Greater Sage-Grouse and its habitats. The U.S. Department of the Interior and the BLM have broad responsibilities to manage Federal lands and resources for the public benefit. Nearly half of Greater Sage-Grouse habitat is managed by the BLM. The BLM is committed to being a good neighbor and investing in on-the-ground conservation activities through close collaboration with State governments, local communities, private landowners, and other stakeholders.

In 2019 the BLM Idaho State Director signed the Record of Decision and Approved Idaho Greater Sage-Grouse Resource Plan Amendment (84 FR 10325), building upon the BLM's commitment to conserve and restore Greater Sage-Grouse habitat while improving collaboration and alignment with State management strategies for Greater Sage-Grouse. The BLM sought to improve management alignment in ways that would increase management flexibility, maintain access to public resources, and promote conservation outcomes.

The Draft Supplemental EIS will supplement and clarify the analysis relied on in the 2019 BLM Idaho Record of Decision, including with respect to the BLM considering a range of reasonable alternatives, taking a “hard look” at environmental effects, and evaluating cumulative impacts. Through the Draft Supplemental EIS, the BLM will also allow for additional public comment on the BLM's approach to compensatory mitigation and Greater Sage-Grouse habitat conservation.

The Idaho planning area analyzed in this Draft Supplemental EIS includes approximately 39,500,000 acres of BLM, National Park Service, U.S. Forest Service, U.S. Bureau of Reclamation, State, local, and private lands in 28 counties: Ada, Adams, Bear Lake, Bingham, Blaine, Bonneville, Butte, Camas, Caribou, Cassia, Clark, Custer, Elmore, Fremont, Gem, Gooding, Jefferson, Jerome, Lemhi, Lincoln, Madison, Minidoka, Oneida, Owyhee, Payette, Power, Twin Falls, and Washington. Also analyzed are the cumulative effects across the Western Association of Fish and Wildlife Agencies' Management Zone and entire Greater Sage-Grouse range. The BLM administers approximately 11,500,000 acres of public lands, providing approximately 8,810,000 acres of Greater Sage-Grouse habitat.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

John F. Ruhs,
BLM Idaho State Director.

[FR Doc. 2020-03393 Filed 2-20-20; 8:45 am]

BILLING CODE 4310-DQ-P